DEPARTMENT OF HEALTH AND HUMAN SERVICES

Centers for Disease Control and Prevention

(30 Day-05-04KJ)

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 371-5983 or send an email to omb@cdc.gov. Send written comments to CDC Desk Officer, Human Resources and Housing Branch, New Executive Office Building, via fax to (202) 395-6974. Written comments should be received within 30 days of this notice.

Proposed Project

Evaluation of the Poison HELP Campaign—to Enhance Public Awareness of the National Poison Toll-Free Number, Poison Center Access and Poison Prevention—New—The National Center for Injury Prevention and Control (NCIPC).

Background and Brief Description

Every day more than 6,000 calls about poison emergencies are placed to poison control centers (PCCs) throughout the United States. Although PCCs clearly save lives and reduce healthcare costs, the system that delivers care and prevents poisoning is comprised of more than 131 telephone numbers and thousands of disjointed local prevention efforts.

As a result a national media campaign was launched to establish a national toll-free helpline entitled Poison Help (1-800-222-1222) that the general public, health professionals, and others can use to access poison emergency services and prevention information 24 hours a day, seven days a week. The Poison Help campaign is the only national and regional media effort to promote awareness and use of the national toll-free number. The prospective audience for the Poison Help campaign is very broad—any person at any time is a potential user.

To evaluate the campaign's current performance a General Population Survey will be conducted with 2,500 households in the United States. The General Population Survey supplies unique and essential information that provides CDC and HRSA with data on variations in awareness and use of the national toll-free number. These data will also suggest which campaign messages about poison prevention or available PCC services have resonated most strongly with various audiences. Results will be used to make comparisons with future evaluation activities and to make improvements to future campaign efforts. There is no cost to respondents other than their time. The total annualized estimated burden hours are 382.

Estimated Annualized Burden Table
Respondents | Number of respondents | Number of responses/respondent | Average burden/response (in hours)
Screened Households | 2,940 | 1 | 1/60
Survey Respondents | 2,500 | 1 | 8/60

Dated: September 15, 2005.
Betsey S. Dunaway,
Acting Reports Clearance Officer, Office of the Chief Science Centers for Disease Control and Prevention.

[FR Doc. 05-18790 Filed 9-20-05; 8:45 am]

BILLING CODE 4163-18-P